DEPARTMENT OF LABOR

Employment and Training Administration

[TA-W-54,602]

Global Farms Enterprise, Inc., San Joaquin, CA; Notice of Termination of Investigation

Pursuant to section 221 of the Trade Act of 1974, as amended, an investigation was initiated on March 26, 2004, in response to a worker petition filed on behalf of workers at Global Farm Enterprises, Inc., San Joaquin, California.

The petitioning group of workers is covered by an earlier petition filed on March 5, 2004 (TA-W-54,553), that is the subject of an ongoing investigation for which a determination has not yet been issued. Further investigation in this case would duplicate efforts and serve no purpose; therefore the investigation under this petition has been terminated.

Signed in Washington, DC this 2nd day of April, 2004.
Elliott S. Kushner,
Certifying Officer, Division of Trade Adjustment Assistance.

[FR Doc. E4-1007 Filed 5-3-04; 8:45 am]

BILLING CODE 4510-13-P